DEPARTMENT OF HOUSING AND URBAN DEVELOPMENT

[Docket No. FR-5752-N-31]

30-Day Notice of Proposed Information Collection: HUD Research, Evaluation, and Demonstration Cooperative Agreements

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: April 24, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on December 30, 2013. Please note that this Notice combines two previous 60-Day Notices that were published as Application and Reporting requirements for this program (FR-5689-N-13 and FR-5689-N-14) that were published on the same day.

A. Overview of Information Collection

Title of Information Collection: HUD Research, Evaluation, and Demonstration Cooperative Agreements.

OMB Approval Number: Pending.

Type of Request New collection.

Form Number:

For the application phase, prospective applicants must respond to the Notice of Funding Availability published in the Federal Register in order to receive an award. They must, prior to award, complete the following submissions:

Application for Federal Assistance (Form SF-424)

Detailed Budget (Form HUD-424-CB)

Disclosure of Lobbying Activities, if required (Standard Form LLL)

Disclosure/Update Report (Form HUD-2880)

Acknowledgment of Application Receipt (Form HUD-2993)

Client Comments and Suggestions (Form HUD-2994)

Narrative, which must include: applicant and organizational qualifications and capacity; and for the selected scenarios the question to be answered, the research design, and the work plan

Resumes of researchers

Indirect cost rate agreement, if available.

For the reporting phase, no agency forms will be used. The quarterly reporting will be accomplished through a short narrative report and use of existing grant management systems.

Description of the need for the information and proposed use: HUD's Office of Policy Development and Research (PD&R) intends to establish cooperative agreements with qualified for-profit and nonprofit research organizations and universities to conduct research, demonstrations, and data analysis. HUD will issue a Notice of Funding Availability (NOFA) describing the cooperative research program and the criteria for applying for awards. To assess qualified organizations for cooperative research, PD&R must collect information about the qualifications and capacity of organizations that apply under the NOFA. After awards have been made, HUD needs to collect information to evaluate the ongoing performance under the cooperative agreements.

Respondents: Applicants will include: public or private nonprofit organizations or intermediaries, including institutions of higher education and area-wide planning organizations; for profit organizations; States, units of general local government, or Indian tribes; and public housing authorities. HUD anticipates that approximately 18 organizations will apply. Of those, HUD anticipates that approximately 8-10 organizations will be selected for cooperative agreement award and subject to ongoing reporting requirements to assess performance.

Estimated Number of Respondents: Approximately eighteen applicants, and between eight to ten awardees.

Estimated Number of Responses: Approximately eighteen applicants, and between eight to ten awardees responsible for ongoing reporting.

Frequency of Response: Approximately 18 applications for the NOFA. Quarterly reporting and other mandatory federal reporting and recordkeeping requirements for cooperative agreement awardees.

Average Hours per Response: For applications, an estimated average of 66.5 hours per respondent to prepare an application, including the narrative and the mandatory forms. Estimated at 36 labor hours annually for each awardee during the life of the agreement.

Total Estimated Burdens:The total estimated burden for application by all participants is 1,197 hours.

Respondents | Responses per respondent | Hours per response | Total hours
18 applicants Application narrative | 1 | 60.0 | 1,080
18 applicants Application forms | 1 | 6.5 | 117
n/a Paperwork burden | n/a | 66.5 | 1,197

The total estimated burden for progress reporting by all awardees is estimated at 360 combined hours annually.

| Respondents | Responses per respondent-year | Hours per response | Total hours
Quarterly Reports | 10 awardees | 4 | 4 | 160
Other Reports | 10 awardees | 1 | 4 | 40
Recordkeeping | 10 awardees | 1 | 16 | 160
Annual paperwork burden | n/a | n/a | n/a | 360

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35

Dated: March 20, 2014.
Colette Pollard,
Department Reports Management Officer, Office of the Chief Information Officer.

[FR Doc. 2014-06564 Filed 3-24-14; 8:45 am]

BILLING CODE 4210-67-P